DEPARTMENT OF TRANSPORTATION

Surface Transportation Board

[Docket No. FD 35457]

Wichita, Tillman & Jackson Railway Company—Acquisition Exemption—Oklahoma Department of Transportation

Wichita, Tillman & Jackson Railway Company (WTJR), a Class III rail carrier, has filed a verified notice of exemption under 49 CFR 1150.41 to acquire approximately 61.02 miles of rail line owned by the Oklahoma Department of Transportation (ODOT), referred to as the Western Branch. The Western Branch extends between milepost 17.54 at the Texas-Oklahoma State line near Burkburnett, Tex., and milepost 78.56 at Altus, Okla. WTJR has leased and operated the Western Branch since 1991.¹

¹ See Wichita, Tillman & Jackson Ry.—Lease and Operation Exemption—State of Okla., FD 31788 (ICC served Jan. 8, 1991).

In Wichita, Tillman & Jackson Railway Company—Lease Renewal Exemption—Oklahoma Department of Transportation, FD 35451 (STB served Dec. 23, 2010), WTJR was authorized to renew and supplement its 1991 lease agreement for the 61.02-mile line of railroad. WTJR states that the 1991 lease agreement grants WTJR an option to purchase the Western Branch upon the payment or prepayment of a specified aggregate rental amount and the payment of the specified purchase price.

WTJR states that, due to actions and inactions of others, it now has elected to exercise the purchase option. WTJR points out that the filing of this notice of exemption to acquire the line does not render the lease renewal moot, because WTJR will not be able to consummate the acquisition before the current term of the lease ends. WTJR states that the proposed transaction does not contain any provisions that would limit future interchange with a third-party connecting carrier.

WTJR certifies that its projected annual revenues as a result of the transaction will not result in WTJR becoming a Class II or Class I rail carrier and further certifies that its projected annual revenues will not exceed $5 million.

The transaction is expected to be consummated on or shortly after January 16, 2011.

If the verified notice contains false or misleading information, the exemption is void ab initio. Petitions to revoke the exemption under 49 U.S.C. 10502(d) may be filed at any time. The filing of a petition to revoke will not automatically stay the effectiveness of the exemption. Petitions for stay must be filed no later than January 9, 2011 (at least 7 days before the exemption becomes effective).

An original and 10 copies of all pleadings, referring to Docket No. FD 35457, must be filed with the Surface Transportation Board, 395 E Street, SW., Washington, DC 20423-0001. In addition, a copy of each pleading must be served on Karl Morell, Ball Janik LLP, Suite 225, 1455 F Street, NW., Washington, DC 20005.

Board decisions and notices are available on our Web site at http://www.stb.dot.gov.

Decided: December 23, 2010.
By the Board, Rachel D. Campbell, Director, Office of Proceedings.
Andrea Pope-Matheson,
Clearance Clerk.

[FR Doc. 2010-32933 Filed 12-29-10; 8:45 am]

BILLING CODE 4915-01-P